DEPARTMENT OF ENERGY

Federal Energy Regulatory Commission

Notice of Effectiveness of Exempt Wholesale Generator Status; Elizabethtown Energy, LLC, et al.

October 30, 2009.

| Docket Nos.
Elizabethtown Energy, LLC | EG09-69-000
Lumberton Energy, LLC | EG09-70-000
Milford Wind Corridor Phase I, LLC | EG09-71-000
Prairie Breeze Wind Energy LLC | EG09-72-000
Dominion Nuclear Connecticut, Inc | EG09-73-000
Fox Islands Wind, LLC | EG09-74-000
Rolling Thunder I Power Partners, LLC | EG09-75-000
Black Bear Hydro Partners, LLC | EG09-77-000
Tilton Energy LLC | EG09-78-000
Langford Wind Power, LLC | EG09-79-000

Take notice that during the month of September, 2009, the status of the above-captioned entities as Exempt Wholesale Generators became effective by operation of the Commission's regulations 18 CFR 366.7(a).

Kimberly D. Bose,
Secretary.

[FR Doc. E9-26742 Filed 11-5-09; 8:45 am]

BILLING CODE 6717-01-P